DEPARTMENT OF TRANSPORTATION

Pipeline and Hazardous Materials Safety Administration

Office of Hazardous Materials Safety Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 19, 2012.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION: Copies of the applications are available for inspection in the Records Center, East Building, PHH-30, 1200 New Jersey Avenue Southeast, Washington, DC, or at http://regulations.gov.

This notice of receipt of applications for special permit is published in accordance with Part 107 of the Federal hazardous materials transportation law (49 U.S.C. 5117(b); 49 CFR 1.53(b)).

Issued in Washington, DC, on June 12, 2012.
Donald Burger,
Chief, General Approvals and Permits.

New Special Permits
Application No. | Docket No. | Applicant | Regulation(s) affected | Nature of special permit thereof
15617-N |  | Veolia ES Technical Solutions, L.L.C. Flanders, NJ | 49 CFR 173.192, 177.848 | To authorize the transportation in commerce of waste phosgene in alternative packaging being transported to a disposal facility without meeting the segregation requirements for Division 2.3 gas Zone A materials within the transport vehicle. (mode 1)
15638-N |  | Lantis Productions Inc. dba Lantis Fireworks & Lasers Draper, UT | 49 CFR 172.101, 172.204(c)(3), 173.27,; 175.30(a)(1), 175.320 | Authorizes the transportation of Fireworks, Division 1.3G, UNO335 by cargo aircraft only, which is otherwise forbidden for air transportation. (mode 3)
15642-N |  | Praxair Distribution, Inc. Danbury, CT | 49 CFR 180.205 and 180.209(a)(b), 180.213(b), and 180.213(f)(2) | To authorize the transportation in commerce of DOT Specification 3AL cylinders, cylinders manufactured under DOT-SP 12440, and ISO 7866 cylinders containing certain compressed gases when retested by a 100% ultrasonic examination in lieu of the internal visual and the hydrostatic retest. (modes 1, 2, 3, 4, 5)
15650-N JL |  | Shepherd & Associates San Fernando, CA | 49 CFR 173.416 | To authorize the continued transportation in commerce of certain DOT Specification 20WC radioactive material packagings after October 1, 2008. (mode 1)

[FR Doc. 2012-14696 Filed 6-18-12; 8:45 am]

BILLING CODE 4909-60-M